DEPARTMENT OF ENERGY

Federal Energy Regulatory Commission

Notice of Application Tendered for Filing With the Commission, Establishing Procedural Schedule for Relicensing, and a Deadline for Submission of Final Amendments

May 20, 2003.

Take notice that the following hydroelectric application has been filed with the Commission and is available for public inspection:

a. Type of Application: New Major License.

b. Project No.: 2586-023.

c. Date filed: April 29, 2003.

d. Applicant: Alabama Electric Cooperative, Inc.

e. Name of Project: Conecuh River Project.

f. Location: On the Conecuh River, in Covington County, Alabama, this project does not affect federal lands.

g. Filed Pursuant to: Federal Power Act 16 U.S.C. 791(a)—825(r).

h. Applicant Contact: Scott Wright (Engineering contact) or Mike Noel (Environmental contact), Alabama Electric Cooperative, Inc., 2027 East Three Notch Street, P.O. Box 550, Andalusia, AL 36420-0550.

i. FERC Contact: Sean Murphy (202) 502-6145, E-mail: sean.murphy@ferc.gov.

j. Deadline for filing comments on the application or requests for cooperating agency status: July 21, 2003.

All documents (original and eight copies) should be filed with: Magalie R. Salas, Secretary, Federal Energy Regulatory Commission, 888 First Street, NE., Washington, DC 20426. Comments, protests and interventions may be filed electronically via the Internet in lieu of paper; see 18 CFR 385.2001(a)(1)(iii) and the instructions on the Commission's Web site under the “e-Filing” link. The Commission strongly encourages electronic filings.

k. Cooperating agencies: We are asking Federal, state, local, and tribal agencies with jurisdiction and /or special expertise with respect to environmental issues to cooperate with us in the preparation of the environmental document. Agencies who would like to request cooperation status should follow the instruction for filing comments described in the item j above. Requests for cooperating agency status may be filed electronically via the Internet in lieu of paper. The Commission strongly encourages electronic filings. See 18 CFR 385.2001(a)(1)(iii) and the instructions on the Commission's Web site (http://www.ferc.gov) under the “e-Filing” link.

l. This application is not ready for environmental analysis at this time.

m. Brief Project Description: The 8.25-megawatt (MW) project consists of two developments: the Gant Dam Development and the Point A Development. The Point “A” Development consists of the following existing facilities: (1) A 2,800-foot-long earthen dam comprised of a gated concrete spillway section; (2) a 700-acre reservoir at a normal water surface elevation of 170 feet msl; (3) a powerhouse, integral with the dam, containing three generating units with a total installed capacity of 5,200 kW, (4) a 0.39-mile-long, 46-kV transmission line; and (5) other appurtenances.

The Gantt Development consists of the following existing facilities: (1) A 1,562-foot-long earthen dam comprised of a gated concrete spillway section; (2) a 2,767-acre reservoir at a normal water surface elevation of 198 feet msl; (3) a powerhouse, integral with the dam, containing two generating units with a total installed capacity of 3,050 kW, and (4) other appurtenances.

n. With this notice, we are initiating consultation with the Alabama State Historic Preservation Officer (SHPO), as required by section 106, National Historic Preservation Act, and the regulations of the Advisory Council on Historic Preservation, 36 CFR 800.4.

o. Procedural schedule and final amendments: At this time we do not anticipate the need for preparing a draft EA. We intend to prepare a single environmental document. The EA will include our recommendations for operation procedures and environmental enhancement measures that should be part of any license issued by the Commission. Recipients will have 60 days to provide the Commission with any written comments on the EA. All comments filed with the Commission will be considered in the Order taking final action on the license applications. However, should substantive comments requiring analysis be received on the NEPA document, we would consider preparing a subsequent NEPA document. Issue Acceptance or Deficiency Letter: July 2003. Notice soliciting final terms and conditions: September 2003. Notice of the availability of the EA: March 2004. Ready for Commission decision on the application: May 2004.

Final amendments to the application must be filed with the Commission no later than 45 days from the issuance date of the notice soliciting final terms and conditions.

p. Locations of the application: A copy of the application is available for review at the Commission in the Public Reference Room or may be viewed on the Commission's Web site at http://www.ferc.gov using the “FERRIS” link. Enter the docket number excluding the last three digits in the docket number field to access the document. For assistance, contact FERC Online Support at FERCOnlineSupport@ferc.gov or toll-free at 1-866-208-3676, or for TTY, (202) 502-8659. A copy is also available for inspection and reproduction at the address in item h above.

You may also register online at http://www.ferc.gov/esubscribenow.htm to be notified via e-mail of new filings and issuances related to this or other pending projects. For assistance, contact FERC Online Support.

Magalie Salas,
Secretary.

[FR Doc. 03-13211 Filed 5-28-03; 8:45 am]

BILLING CODE 6717-01-P